DEPARTMENT OF ENERGY

Federal Energy Regulatory Commission

[Docket No. CP23-200-000]

Transcontinental Gas Pipe Line Company, LLC; Northern Natural Gas Company; Notice of Schedule for the Preparation of an Environmental Assessment for the Pelto Area Abandonment Project

On April 20, 2023, Transcontinental Gas Pipe Line Company, LLC (Transco) and Northern Natural Gas Company (Northern) filed an application in Docket No. CP23-200-000 requesting an Authorization pursuant to section 7(b) of the Natural Gas Act to abandon certain natural gas pipeline facilities. The facilities proposed for abandonment have not been utilized since at least 2020 and Transco and Northern do not anticipate that any additional flow through these facilities will occur in the future. The proposed project is known as the Pelto Area Abandonment Project (Project).

On May 3, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA December 1, 2023

90-day Federal Authorization Decision Deadline ² February 29, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Transco and Northern seek to abandon six pipeline segments with different ownership interests that total about 32.1 miles. Project pipelines in federal waters are within a Bureau of Ocean Energy Management (BOEM) identified Significant Sediment Resource Area and BOEM requires that Transco and Northern remove those pipelines as part of the proposed abandonment. Similarly, the Louisiana Office of State Lands requires removal of abandoned pipelines within state waters. Transco and Northern propose to abandon by removal a total of 26.5 miles of pipeline in federal waters and abandon by removal a total of 5.6 miles of pipeline within Louisiana state waters. Transco and Northern also propose to abandon the pipeline in-place at active foreign pipeline crossings for a total of approximately 0.20 to 0.41 mile. Additionally, Transco proposes to abandon risers in place from the PL-10 and PL-11 Platforms, abandon risers by removal from the SS-70 Platform, and remove metering and associated equipment from the PL-10, PL-11, and SS-91 Platforms in federal waters.

Background

On June 14, 2023, the Commission issued a Notice of Scoping Period Requesting Comments on Environmental Issues for the Proposed Pelto Area Abandonment Project (Notice of Scoping). The Notice of Scoping was sent to federal and state government agencies and other interested parties. In response to the Notice of Scoping, the Commission received comments from the U.S. Environmental Protection Agency and the Choctaw Nation of Oklahoma. The primary issues raised by the U.S. Environmental Protection Agency are air quality, noise, and environmental justice. The Choctaw Nation of Oklahoma stated that the Project lies outside of its area of historic interest. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” (i.e., CP23-200-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 28, 2023.
Kimberly D. Bose,
Secretary.

[FR Doc. 2023-16631 Filed 8-3-23; 8:45 am]

BILLING CODE 6717-01-P